DEPARTMENT OF TRANSPORTATION

Maritime Administration

Reports, Forms and Recordkeeping Requirements Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and comment. The nature of the information collection is described as well as its expected burden. The Federal Register Notice with a 60-day comment period soliciting comments on the following collection of information was published on December 21, 2001.

DATES: Comments must be submitted on or before April 5, 2002.

ADDRESSES: Send comments to the Office of Information and Regulatory Affairs, Office of Management and Budget, 725 17th Street, NW., Washington, DC 20503, Attention MARAD Desk Officer.

FOR FURTHER INFORMATION CONTACT: Patricia Thomas, Maritime Administration, MAR-250, 400 Seventh St., SW., Washington, DC 20590. Telephone: 202-366-2646; FAX 202-493-2288 or E-MAIL: patricia.thomas@marad.dot.gov.

Copies of this collection can also be obtained from that office.

SUPPLEMENTARY INFORMATION: Maritime Administration (MARAD).

Title: Regulations for Making Excess or Surplus Federal Property Available to the U.S. Merchant Marine Academy and State Maritime Academies.

OMB Control Number: 2133-0504.

Type of Request: Extension of currently approved collection.

Affected Public: Maritime training institutions interested in acquiring excess or surplus property from the Maritime Administration.

Form(s): None.

Abstract: In accordance with 46 U.S.C., MARAD requires approved maritime training institutions seeking excess or surplus property to provide a statement of need/justification prior to acquiring the property. The information provided is used by MARAD officials to determine compliance with applicable statutory requirements.

Annual Estimated Burden Hours: 60 hours.

Comments Are Invited On: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology.

A comment to OMB is best assured of having its full effect if OMB receives it within 30 days of publication.

Issued in Washington, DC on March 1, 2002.
Joel C. Richard,
Secretary, Maritime Administration.

[FR Doc. 02-5341 Filed 3-5-02; 8:45 am]

BILLING CODE 4910-81-P